Title 3—

The President

Executive Order 13374 of March 14, 2005

Amendments to Executive Order 12293—The Foreign Service of the United States

By the authority vested in me as President by the Constitution and the laws of the United States of America, including section 402 of the Foreign Service Act of 1980, as amended (22 U.S.C. 3962), and in order to adjust the basic salary rates for each class of the Senior Foreign Service, it is hereby ordered as follows:

Section 1. Section 4 of Executive Order 12293 of February 23, 1981, as amended, is amended to read as follows:

“Sec. 4. Pursuant to section 402 of the Foreign Service Act (22 U.S.C. 3962), and subject to any restrictions therein, there are established the following salary classes with titles for the Senior Foreign Service, at the following ranges of basic rates of pay:

(a)

Career Minister

Range from 100 percent of the minimum rate of basic pay for senior-level positions under 5 U.S.C. 5376 to 100 percent of the rate payable for level II of the Executive Schedule.

(b)

Minister-Counselor

Range from 100 percent of the minimum rate of basic pay for senior-level positions under 5 U.S.C. 5376 to 107 percent of the rate payable for level III of the Executive Schedule.

(c)

Counselor

Range from 100 percent of the minimum rate of basic pay for senior-level positions under 5 U.S.C. 5376 to 102 percent of the rate payable for level III of the Executive Schedule.”

Sec. 2. Section 2 of Executive Order 12293, as amended, is amended by striking “the Director of the International Communication Agency, the Director of the United States International Development Cooperation Agency” and inserting in lieu thereof “the Administrator of the United States Agency for International Development”.

Sec. 3. Executive Order 13325 of January 23, 2004, is revoked.

Sec. 4. This order is not intended to, and does not, create any right or benefit, substantive or procedural, enforceable by any party at law or in equity against the United States, its departments, agencies, entities, officers, employees, or agents, or any other person.

B

THE WHITE HOUSE,

March 14, 2005.

[FR Doc. 05-5434

Filed 3-16-05; 8:45 am]

Billing code 3195-01-P